DEPARTMENT OF HEALTH AND HUMAN SERVICES

National Institutes of Health

National Institute of Allergy and Infectious Diseases; Notice of Meetings

Pursuant to section 1009 of the Federal Advisory Committee Act, as amended, notice is hereby given of meetings of the National Advisory Allergy and Infectious Diseases Council.

A portion of the meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Allergy and Infectious Diseases Council.

Date: June 3, 2024.

Open: 10:30 a.m. to 11:30 a.m.

Agenda: Report of Institute Director.

Place: National Institute of Allergy and Infectious Diseases, National Institutes of Health, 5601 Fishers Lane, Grand Hall, Rockville, MD 20852 (Hybrid Meeting).

Closed: 11:45 a.m. to 12:00 p.m.

Agenda: To review and evaluate grant applications.

Place: National Institute of Allergy and Infectious Diseases, National Institutes of Health, 5601 Fishers Lane, Grand Hall, Rockville, MD 20852 (Hybrid Meeting).

Contact Person: Kelly Y. Poe, Ph.D., Director, Division of Extramural Activities, National Institute of Allergy and Infectious Diseases, National Institutes of Health, 5601 Fishers Lane, Room 3F40B, Bethesda, MD 20892-9834, (240) 669-5036, poeky@mail.nih.gov.

Name of Committee: National Advisory Allergy and Infectious Diseases Council; Microbiology and Infectious Diseases Subcommittee.

Date: June 3, 2024.

Closed: 8:30 a.m. to 10:15 a.m.

Agenda: To review and evaluate grant applications.

Place: National Institute of Allergy and Infectious Diseases, National Institutes of Health, 5601 Fishers Lane, Garden Room 2, Rockville, MD 20852 (Hybrid Meeting).

Open: 1:00 p.m. to 4:00 p.m.

Agenda: Report of the Division Director and Division Staff.

Place: National Institute of Allergy and Infectious Diseases, National Institutes of Health, 5601 Fishers Lane, Garden Room 2, Rockville, MD 20852 (Hybrid Meeting).

Contact Person: Kelly Y. Poe, Ph.D., Director, Division of Extramural Activities, National Institute of Allergy and Infectious Diseases, National Institutes of Health, 5601 Fishers Lane, Room 3F40B Bethesda, MD 20892-9834, (240) 669-5036, poeky@mail.nih.gov.

Name of Committee: National Advisory Allergy and Infectious Diseases Council; Immunology and Transplantation Subcommittee.

Date: June 3, 2024.

Closed: 8:30 a.m. to 10:15 a.m.

Agenda: To review and evaluate grant applications.

Place: National Institute of Allergy and Infectious Diseases, National Institutes of Health, 5601 Fishers Lane, Garden Room 1, Rockville, MD 20852 (Hybrid Meeting).

Open: 1:00 p.m. to 4:00 p.m.

Agenda: Report of the Division Director and Division Staff.

Place: National Institute of Allergy and Infectious Diseases, National Institutes of Health, 5601 Fishers Lane, Garden Room 1, Rockville, MD 20852 (Hybrid Meeting).

Contact Person: Kelly Y. Poe, Ph.D., Director, Division of Extramural Activities, National Institutes of Health, NIAID, National Institutes of Health, 5601 Fishers Lane, Room 3F40B, Bethesda, MD 20892-9834, (240) 669-5036, poeky@mail.nih.gov.

Name of Committee: National Advisory Allergy and Infectious Diseases Council; Acquired Immunodeficiency Syndrome Subcommittee.

Date: June 3, 2024.

Closed: 8:30 a.m. to 10:15 a.m.

Agenda: To review and evaluate grant applications.

Place: National Institute of Allergy and Infectious Diseases, National Institutes of Health, 5601 Fishers Lane, Grand Hall, Rockville, MD 20852 (Hybrid Meeting).

Open: 1:00 p.m. to 4:00 p.m.

Agenda: Report of the Division Director and Division Staff.

Place: National Institute of Allergy and Infectious Diseases, National Institutes of Health, Conference Room: Grand Hall, 5601 Fishers Lane, Rockville, MD 20852 (Hybrid Meeting).

Contact Person: Kelly Y. Poe, Ph.D., Director, Division of Extramural Activities, National Institute of Allergy and Infectious Diseases, National Institutes of Health, 5601 Fishers Lane, Room 3F40B, Bethesda, MD 20892-9834, (240) 669-5036, poeky@mail.nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Institute's/Center's home page: https://www.niaid.nih.gov/about/advisory-council, where an agenda and any additional information for the meeting will be posted when available.

(Catalogue of Federal Domestic Assistance Program Nos. 93.855, Allergy, Immunology, and Transplantation Research; 93.856, Microbiology and Infectious Diseases Research, National Institutes of Health, HHS)

Dated: March 21, 2024.
Lauren A. Fleck,
Program Analyst, Office of Federal Advisory Committee Policy.

[FR Doc. 2024-06462 Filed 3-26-24; 8:45 am]

BILLING CODE 4140-01-P